DEPARTMENT OF ENERGY

Federal Energy Regulatory Commission

Combined Notice of Filings

Take notice that the Commission has received the following Natural Gas Pipeline Rate and Refund Report filings:

Filings Instituting Proceedings

Docket Number: PR18-52-001.

Applicants: DTE Gas Company.

Description: Tariff Filing per 284.123(b),(e)/: Operating Statement Amendment to be effective 6/1/2018.

Filed Date: 7/19/18.

Accession Number: 201807195053.

Comments/Protests Due: 5 p.m. ET7/30/18.

Docket Number: PR18-67-000.

Applicants: Pacific Gas and Electric Company.

Description: Tariff filing per 284.123(b),(e)+(g)/.224: Revisions to Statement of Operating Conditions: to be effective 1/1/2018.

Filed Date: 7/20/18.

Accession Number: 201807205000.

Comments Due: 5 p.m. ET 8/10/18.

284.123(g) Protests Due: 5 p.m. ET9/18/18.

Docket Number: PR18-68-000.

Applicants: DTE Gas Company.

Description: Tariff Filing per 284.123(b),(e)/: DTE Gas Company Rate Filing to be effective 6/1/2018.

Filed Date: 7/20/18.

Accession Number: 201807205136.

Comments/Protests Due: 5 p.m. ET8/10/18.

Docket Numbers: RP18-985-000.

Applicants: Eastern Shore Natural Gas Company.

Description: Compliance filing Incremental Rates 2017 Expansion Project to be effective 7/20/2018.

Filed Date: 7/19/18.

Accession Number: 20180719-5111.

Comments Due: 5 p.m. ET 7/31/18.

Docket Numbers: RP18-986-000.

Applicants: Dominion Energy Carolina Gas Transmission.

Description: § 4(d) Rate Filing: DECG—July 2018 Administrative Changes to be effective 8/20/2018.

Filed Date: 7/20/18.

Accession Number: 20180720-5037.

Comments Due: 5 p.m. ET 8/1/18.

Docket Numbers: RP18-987-000.

Applicants: Transcontinental Gas Pipe Line Company, LLC.

Description: § 4(d) Rate Filing: Non-Conforming—Atlantic Sunrise to be effective 8/20/2018.

Filed Date: 7/20/18.

Accession Number: 20180720-5050.

Comments Due: 5 p.m. ET 8/1/18.

Docket Numbers: RP18-988-000.

Applicants: Transcontinental Gas Pipe Line Company, LLC.

Description: § 4(d) Rate Filing: Central Penn Line—Tariff References to be effective 8/20/2018.

Filed Date: 7/20/18.

Accession Number: 20180720-5063.

Comments Due: 5 p.m. ET 8/1/18.

Docket Numbers: RP18-989-000.

Applicants: Transcontinental Gas Pipe Line Company, LLC.

Description: § 4(d) Rate Filing: Atlantic Sunrise Tariff Rate Filing to be effective 8/20/2018.

Filed Date: 7/20/18.

Accession Number: 20180720-5064.

Comments Due: 5 p.m. ET 8/1/18.

Docket Numbers: RP18-990-000.

Applicants: Transcontinental Gas Pipe Line Company, LLC.

Description: § 4(d) Rate Filing: List of Non-Conforming Service Agreements (Atlantic Sunrise) to be effective 8/20/2018.

Filed Date: 7/20/18.

Accession Number: 20180720-5078.

Comments Due: 5 p.m. ET 8/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2018.
Nathaniel J. Davis, Sr.,
Deputy Secretary.

[FR Doc. 2018-16084 Filed 7-26-18; 8:45 am]

BILLING CODE 6717-01-P